INTERNATIONAL TRADE COMMISSION

[Inv. No. 337-TA-808]

In the Matter of Certain Electronic Devices With Communication Capabilities, Components Thereof, and Related Software; Notice of Institution of Investigation; Institution of Investigation Pursuant to 19 U.S.C. 1337

AGENCY: U.S. International Trade Commission.

ACTION: Notice.

SUMMARY: Notice is hereby given that a complaint was filed with the U.S. International Trade Commission on August 16, 2011, under section 337 of the Tariff Act of 1930, as amended, 19 U.S.C. 1337, on behalf of HTC Corp. of Taiwan. An amended complaint was filed on September 7, 2011. Supplements were filed on September 2, 19, and 23, 2011. The amended complaint alleges violations of section 337 based upon the importation into the United States, the sale for importation, and the sale within the United States after importation of certain electronic devices with communication capabilities, components thereof, and related software by reason of infringement of certain claims of U.S. Patent No. 7,765,414 (“the ‘414 patent”); U.S. Patent No. 7,417,944 (“the ‘944 patent”); U.S. Patent No. 7,672,219 (“the ‘219 patent”); U.S. Patent No. 6,708,214 (“the ‘214 patent”); U.S. Patent No. 6,473,006 (“the ‘006 patent”); U.S. Patent No. 7,289,772 (“the ‘772 patent”); U.S. Patent No. 6,868,283 (“the ‘283 patent”); and U.S. Patent No. 7,020,849 (“the ‘849 patent”). The amended complaint further alleges that an industry in the United States exists or is in the process of being established as required by subsection (a)(2) of section 337.

The complainant requests that the Commission institute an investigation and, after the investigation, issue an exclusion order and cease and desist order.

ADDRESSES: The amended complaint, except for any confidential information contained therein, is available for inspection during official business hours (8:45 a.m. to 5:15 p.m.) in the Office of the Secretary, U.S. International Trade Commission, 500 E Street, SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: the Office of Unfair Import Investigations, U.S. International Trade Commission, telephone (202) 205-2560.

Authority: The authority for institution of this investigation is contained in section 337 of the Tariff Act of 1930, as amended, and in section 210.10 of the Commission's Rules of Practice and Procedure, 19 CFR 210.10 (2011).

Scope of Investigation: Having considered the amended complaint, the U.S. International Trade Commission, on September 26, 2011, Ordered That—

(1) Pursuant to subsection (b) of section 337 of the Tariff Act of 1930, as amended, an investigation be instituted to determine whether there is a violation of subsection (a)(1)(B) of section 337 in the importation into the United States, the sale for importation, or the sale within the United States after importation of certain electronic devices with communication capabilities, components thereof, and related software that infringe one or more of claims 1, 4-13, and 15-21 of the ‘414 patent; claim 1 of the ‘944 patent; claims 1-5 of the ‘219 patent; claims 1-3 of the ‘214 patent; claims 1, 3, and 7-11 of the ‘006 patent; claims 1, 2, and 9 of the ‘772 patent; claims 11, 12, and 19 of the ‘283 patent; and claims 1, 5, 9-11, 13, 14, 16, and 17 of the ‘849 patent; and whether an industry in the United States exists or is in the process of being established as required by subsection (a)(2) of section 337;

(2) For the purpose of the investigation so instituted, the following are hereby named as parties upon which this notice of investigation shall be served:

(a) The complainant is:

HTC Corp., 23 Xinghua Rd., Taoyuan City, Taoyuan County 330, Taiwan.

(b) The respondent is the following entity alleged to be in violation of section 337, and is the party upon which the amended complaint is to be served:

Apple Inc. a/k/a Apple Computer, Inc., 1 Infinite Loop, Cupertino, CA 95014.

(c) The Office of Unfair Import Investigations, U.S. International Trade Commission, 500 E Street, SW., Suite 401, Washington, DC 20436; and

(3) For the investigation so instituted, the Acting Chief Administrative Law Judge, U.S. International Trade Commission, shall designate the presiding Administrative Law Judge.

Responses to the amended complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the amended complaint and the notice of investigation. Extensions of time for submitting responses to the amended complaint and the notice of investigation will not be granted unless good cause therefor is shown.

Failure of a respondent to file a timely response to each allegation in the amended complaint and in this notice may be deemed to constitute a waiver of the right to appear and contest the allegations of the amended complaint and this notice, and to authorize the administrative law judge and the Commission, without further notice to the respondent, to find the facts to be as alleged in the amended complaint and this notice and to enter an initial determination and a final determination containing such findings, and may result in the issuance of an exclusion order or a cease and desist order or both directed against the respondent.

By order of the Commission.
Issued: September 27, 2011.
James R. Holbein,
Secretary to the Commission.

[FR Doc. 2011-25279 Filed 9-29-11; 8:45 am]

BILLING CODE 7020-02-P